NATIONAL SCIENCE FOUNDATION

Advisory Committee for Social, Behavioral and Economic Sciences; Notice of Meeting

In accordance with the Federal Advisory Committee Act (Pub. L. 92-463, as amended), the National Science Foundation announces the following meeting.

Name: Advisory Committee for Social, Behavioral, and Economic Sciences (ACSBE) (#1171).

Date and Time: November 3, 2005 8 a.m.-5 p.m., November 4, 2005 8 a.m.-12:30 p.m.

Place: National Science Foundation, Stafford II Building, Suite 555, Arlington, VA 22230.

Type of Meeting: Open.

Contact Person: Mr. Tyrone Jordan Office of the Assistant Director, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: Discussion on issues, role and future direction of the Directorate for Social, Behavioral, and Economic Sciences.

Dated: October 13, 2005.
Susanne Bolton,
Committee Management Officer.

[FR Doc. 05-20863 Filed 10-17-05; 8:45 am]

BILLING CODE 7555-01-M